DEPARTMENT OF THE INTERIOR

Fish and Wildlife Service

50 CFR Part 17

RIN 1018-AH05

Endangered and Threatened Wildlife and Plants; Reopening of Comment Period for the Proposal To Designate Critical Habitat for the Wenatchee Mountains Checker-Mallow, and Notice of Availability of the Draft Economic Analysis for Proposed Critical Habitat for the Wenatchee Mountains Checker-Mallow

AGENCY: Fish and Wildlife Service, Interior.

ACTION: Proposed rule; reopening of comment period and notice of availability of draft economic analysis.

SUMMARY: We, the U.S. Fish and Wildlife Service, announce the reopening of the comment period for the proposed designation of critical habitat for the Wenatchee Mountains checker-mallow (Sidalcea oregana var. calva), and the availability of the draft economic analysis for the plant's proposed designation of critical habitat. We are reopening the comment period for the proposal to designate critical habitat for this species to allow all interested parties to comment simultaneously on the proposed rule and the associated draft economic analysis. Comments previously submitted need not be resubmitted as they will be incorporated into the public record as part of this extended comment period and will be fully considered in the final rule.

DATES: We will accept public comments until June 14, 2001.

ADDRESSES: Written comments and information should be submitted to Manager, Western Washington Office, U.S. Fish and Wildlife Service, 510 Desmond Drive SE., Suite 102, Lacey, Washington 98503-1263. For the electronic mail address, and further instructions on commenting, refer to Public Comments Solicited section of this notice.

FOR FURTHER INFORMATION CONTACT: For general information, contact Ted Thomas or James Michaels, at the above address (telephone 360/753-9440; facsimile 360/753-9518).

SUPPLEMENTARY INFORMATION:

Background

The Wenatchee Mountains checker-mallow (Sidalcea oregana var. calva) is an herbaceous perennial known from wetlands of the Wenatchee Mountains in central Washington. The plant ranges in height from 20 to 150 centimeters (8 to 60 inches), with pink flower clusters with one to many stalked flowers arranged singly along a common stem. The species occurs at six locations, all are known from Chelan County, Washington.

Pursuant to the Endangered Species Act of 1973, as amended (Act) (16 U.S.C. 1531 et seq.), Sidalcea oregana var. calva was listed as an endangered species on December 22, 1999 (64 FR 71680). Habitat fragmentation and destruction from alterations of hydrology, rural residential development, conversion of native wetlands to orchards and other agricultural uses, competition form nonnative plants, seed and plant collection, and fire suppression and the activities associated with fire suppression threaten Sidalcea oregana var. calva.

In April 2000, as a result of a suit from the Southwest Center for Biological Diversity and the Center for Biological Diversity, we reached a settlement agreement on when to publish a proposed and final critical habitat designation for Sidalcea oregana var. calva. We agreed to publish a proposed critical habitat designation for this species on or before December 31, 2000, and a final critical habitat designation on or before August 31, 2001.

On January 18, 2001, we published a proposed rule in the Federal Register (66 FR 4783) to designate critical habitat for Sidalcea oregana var. calva. The original comment period closed on March 19, 2001. We intend to reopen the comment period for an additional 30 days to allow all interested parties to comment simultaneously on the proposed rule and the associated draft economic analysis.

We have proposed to designate critical habitat in one critical habitat unit totaling approximately 2,486 hectares (6,137 acres) in Chelan County, Washington. The area encompasses a majority of the Camas Creek and Pendleton Creek watersheds.

Critical habitat receives protection from destruction or adverse modification through required consultation under section 7 of the Act with regard to actions carried out, funded, or authorized by a Federal agency. Section 4(b)(2) of the Act requires that we designate or revise critical habitat based upon the best scientific and commercial data available, after taking into consideration the economic impact of specifying any particular area as critical habitat. Based upon the previously published proposal to designate critical habitat for Sidalcea oregana var. calva, we have prepared a draft economic analysis of the proposed critical habitat designation. The draft economic analysis is available on the Internet and from the mailing addresses in the Public Comments Solicited section below.

Public Comments Solicited

We will accept written comments and information during this re-opened comment period. If you wish to comment, you may submit your comments and materials concerning this proposal by any of several methods:

(1) You may submit written comments and information to the Manager, Western Washington Office, U.S. Fish and Wildlife Service, 510 Desmond Drive SE, Suite 102, Lacey, Washington 98503-1263.

(2) You may send comments by electronic mail (e-mail) to: fw1wwo_checkermallow@r1.fws.gov. If you submit comments by e-mail, please submit them as an ASCII file and avoid the use of special characters and any form of encryption. Please also include “Attn: RIN 1018-AH05” and your name and return address in your e-mail message. If you do not receive a confirmation from the system that we have received your e-mail message, contact us directly by calling our Western Washington Office at telephone number 360/753-9440.

(3) You may hand-deliver comments to our Western Washington Office at the address given above.

Comments and materials received, as well as supporting documentation used in preparation of the proposal to designate critical habitat, will be available for inspection, by appointment, during normal business hours at the address under (1) above. Copies of the draft economic analysis are available on the Internet at “www.r1.fws.gov” or by writing to the Manager at the address under (1) above.

Author

The primary author of this notice is Ted Thomas (see ADDRESSES section).

Authority

The authority for this action is the Endangered Species Act of 1973 (16 U.S.C. 1531 et seq.).

Dated: March 14, 2001.
Rowan W. Gould,
Acting Regional Director, Region 1, Fish and Wildlife Service.

[FR Doc. 01-12173 Filed 5-14-01; 8:45 am]

BILLING CODE 4310-55-U